DEPARTMENT OF LABOR

Employment and Training Administration

[TA-W-85,512; TA-W-85,512A]

ALSIP Acquisition LLC, D.B.A. Future Mark ALSIP, ALSIP, Illinois; Futuremark Paper Company Westport, Connecticut; Amended Certification Regarding Eligibility To Apply for Worker Adjustment Assistance

In accordance with Section 223 of the Trade Act of 1974, as amended (“Act”), 19 U.S.C. 2273, the Department of Labor issued a Certification of Eligibility to Apply for Worker Adjustment Assistance on September 19, 2014, applicable to workers of Alsip Acquisition LLC, d.b.a. FutureMark Alsip, Alsip, Illinois (TA-W-85,512). The Department's Notice of Determination was published in the Federal Register on October 14, 2014 (79 FR 61658).

At the request of a company official, the Department reviewed the certification for workers of the subject firm.

The firm is engaged in the production of coated printing paper. Workers at FutureMark Paper Company, Westport, Connecticut supplied sales services.

The investigation confirmed that worker separations at FutureMark Paper Company, Westport, Connecticut (TA-W-85,512A) are attributable to increased imports of coated printing paper, as are the worker separations at the Alsip Acquisition LLC, d.b.a. FutureMark Alsip, Alsip, Illinois (TA-W-85,512). The worker group includes individuals who worked from their homes in New Jersey but reported to the Westport, Connecticut office.

The amended notice applicable to TA-W-85,512 and TA-W-85,512A is hereby issued as follows:

All workers of Alsip Acquisition LLC, d.b.a. FutureMark Alsip, Alsip, Illinois (TA-W-85,512) and FutureMark Paper Company, Westport, Connecticut (TA-W-85,512A) who became totally or partially separated from employment on or after August 28, 2013 through September 19, 2016, and all workers in the group threatened with total or partial separation from employment on the date of certification through September 19, 2016, are eligible to apply for adjustment assistance under Chapter 2 of Title II of the Trade Act of 1974, as amended.

Signed in Washington, DC, this 16th day of October, 2014.
Michael W. Jaffe,
Certifying Officer, Office of Trade Adjustment Assistance.

[FR Doc. 2014-27786 Filed 11-24-14; 8:45 am]

BILLING CODE 4510-FN-P